DEPARTMENT OF AGRICULTURE

Commodity Credit Corporation

Finding of No Significant Impact

AGENCY: Commodity Credit Corporation, USDA.

SUMMARY: The Commodity Credit Corporation (CCC) is issuing a Finding of No Significant Impact (FONSI) with respect to the implementation of the Emergency Forestry Conservation Reserve Program (EFCRP). EFCRP provides cost-share assistance for cleanup and replanting for those owners or operators of non-industrial forest land and school trust land that experienced a loss of 35 percent or more of merchantable timber directly related to hurricanes that occurred during the 2005 calendar year.

DATES: This action is effective 30 days after publication of this Notice.

ADDRESSES: The Final Programmatic Environmental Assessment and FONSI may be reviewed at http://www.fsa.usda.gov/dafp/cepd/epb/assessments.htm. Written comments should be directed to Mike Linsenbigler, USDA/FSA/CEPD/Stop 0513, 1400 Independence Ave., SW., Washington, DC 20250-0513. Electronic comments may be submitted to EFCRP@wdc.usda.gov. Persons with disabilities who require alternative means for communication (Braille, large print, audio tape, etc.) should contact the USDA Target Center at (202) 720-2600 (voice and TDD).

SUPPLEMENTARY INFORMATION: Consistent with the National Environmental Policy Act of 1969, as amended, (42 U.S.C. 4321, et seq.) (NEPA), the Council on Environmental Quality (CEQ) Regulations for Implementing the Procedural Provisions of NEPA (40 CFR parts 1500-1508), and FSA's policy and procedures (7 CFR part 799), the United States Department of Agriculture, Farm Service Agency (FSA), on behalf of the CCC, prepared a Programmatic Environmental Assessment for the Emergency Forestry Conservation Reserve Program (EFCRP) to evaluate the environmental consequences associated with the 2005 hurricane season. During the course of the 2005 hurricane season, one of the worst on record, five hurricanes made landfall on the United States (U.S.) between July and October 2006: Dennis, Katrina, Ophelia, Rita, and Wilma. Each of these caused damage to infrastructure, homes, personal property, and agricultural resources, including privately owned forests. The purpose of EFCRP is to provide cost-share assistance for cleanup and replanting for those owners or operators of non-industrial forest land and school trust land that experienced a loss of 35 percent or more of merchantable timber directly related to hurricanes that occurred during the 2005 calendar year.

The EFCRP was authorized by Section 107 of Division B, Title I, of the Department of Defense Appropriations Act of 2006, H.R. 2863, signed by the President on December 30, 2005. The program applies to the States of Alabama, Florida, Louisiana, Mississippi, North Carolina, and Texas.

Preferred Alternative

Implementation of the Preferred Alternative will provide cost-share assistance for cleanup and replanting for owners or operators of non-industrial private forest land (including school trust lands) who experienced a loss of 35 percent or more of merchantable timber directly related to hurricanes Katrina, Ophelia, Rita, Dennis, and Wilma during the 2005 calendar year.

Producers will be provided financial assistance for the following nine eligible conservation practices: CP 35A and CP 35B: New and Existing Longleaf Pine; CP 35C and CP 35D: New and Existing Bottomland Hardwood; CP 35E and CP 35F: New and Existing Softwood; CP 35G and CP 35H: New and Existing Upland Hardwood; and Mixed Existing, CP35I. Each EFCRP contract would have a conservation plan developed by a professional forester. There would be a status review by FSA on each contract until the Practice is established.

Reasons for Finding of No Significant Impact

In consideration of the analysis documented in the Programmatic Environmental Assessment for the Emergency Forestry Conservation Reserve Program and the reasons outlined in this FONSI, the preferred alternative would not constitute a major State or Federal action that would significantly affect the human environment. Therefore, an Environmental Impact Statement need not be prepared. This determination is based on the following:

1. Both beneficial and adverse impacts of implementing the preferred alternative have been fully considered within the Programmatic Environmental Assessment for the Emergency Forestry Conservation Reserve Program. The beneficial impacts outweigh any adverse impacts. Adverse cumulative impacts are expected to be minor as implementation of the preferred alternative will cause very little if any adverse impacts on the area of potential effects and the human environment.

2. The preferred alternative would not significantly affect public health or safety. Further, the removal of downed timber as a result of the preferred alternative would reduce fire fuel, minimizing the potential for wildfires to threaten public safety.

3. The preferred alternative would not significantly affect any unique characteristics which includes historic and cultural resources, parklands, prime farmlands, wetlands, wild and scenic rivers, or ecologically critical areas.

4. The preferred alternative does not involve effects to the quality of the human environment that are likely to be highly controversial. Implementing the preferred alternative will reduce contamination of drinking water, improve air quality, and further recreational and socioeconomic benefits.

5. The preferred alternative would not impose highly uncertain, or involve unique or unknown risks.

6. The preferred alternative would not establish a precedent for future actions with significant effects and does not represent a decision in principle about a future consideration. The preferred alternative is intended to assist owners or operators of non-industrial private forest land in recovering from the 2005 hurricane damage. Any future projects that are similar in nature will need to be reviewed on a case-by-case basis to determine their individual potential for impact on the human environment.

7. The preferred alternative is not related to other actions with individually insignificant but cumulative significant impacts. The Environmental Consequences section of the Programmatic Environmental Assessment for the Emergency Forestry Conservation Reserve Program discusses potential cumulative impacts of implementing the preferred alternative. Cumulative impacts of implementing the preferred alternative were determined to not be significant.

8. The preferred alternative would not adversely affect districts, sites, highways, structures, or objects listed in or eligible for listing in the National Register of Historic Places or cause loss or destruction of significant scientific, cultural, or historical resources. Consultation with the State Historic Preservation Offices was completed. Site-specific cultural resource considerations will be addressed during the environmental review process for individual contracts.

9. The preferred alternative would not have adverse effects on threatened or endangered species or designated critical habitat. In accordance with section 7 of the Endangered Species Act, 16 U.S.C. 1536, the effects of implementing the preferred alternative on threatened and endangered species and designated critical habitat were addressed in the Programmatic Environmental Assessment for the Emergency Forestry Conservation Reserve Program. Informal consultation with the U.S. Fish and Wildlife Service was completed.

10. The preferred alternative does not threaten a violation of Federal, State, or local law or requirements imposed for the protection of the environment.

Determination

Consistent with the National Environmental Policy Act, 40 CFR part 1502.4, “Major Federal actions requiring the preparation of Environmental Impact Statements,” 7 CFR part 799, “Environmental Quality and Related Environmental Concerns—Compliance with NEPA implementing the regulations of the Council on Environmental Quality,” and 40 CFR Parts 1500-1508, I find that neither the proposed action nor any of the alternatives analyzed constitute a major Federal action significantly affecting the quality of the human environment. Therefore, no environmental impact statement will be prepared.

Signed in Washington, DC on September 21, 2006.
Thomas B. Hofeller,
Acting Executive Vice President, Commodity Credit Corporation.

[FR Doc. E6-15855 Filed 9-26-06; 8:45 am]

BILLING CODE 3410-05-P